DEPARTMENT OF TRANSPORTATION

Federal Highway Administration

23 CFR Part 490

RIN 2125-AG27

National Performance Management Measures; Rescinding Requirements for the First Performance Period

AGENCY: Federal Highway Administration (FHWA), Department of Transportation (DOT).

ACTION: Final rule.

SUMMARY: This final rule rescinds the requirements pertaining to the performance targets established by State departments of transportation (State DOTs) and Metropolitan Planning Organizations (MPOs) for the first performance period (Calendar Years 2018 through 2021), as originally promulgated in the regulations issued on January 18, 2017, National Performance Management Measures; Assessing Performance of the National Highway System, Freight Movement on the Interstate System, and Congestion Mitigation and Air Quality Improvement Program.

DATES: This final rule is effective May 30, 2025.

FOR FURTHER INFORMATION CONTACT: For questions about this final rule, please contact Ms. LaToya Johnson, FHWA Office of Infrastructure, 202-366-0479, or via email at latoya.johnson@dot.gov. For legal questions, please contact Mr. David Serody, FHWA Office of Chief Counsel, 202-366-4241, or via email at David.Serody@dot.gov. Office hours for FHWA are from 8 a.m. to 4:30 p.m., eastern time (E.T.), Monday through Friday, except Federal holidays.

SUPPLEMENTARY INFORMATION:

Electronic Access and Filing

An electronic copy of this document may also be downloaded from the Office of Federal Register's website at www.federalregister.gov and the U.S. Government Publishing Office's website at www.GovInfo.gov.

I. General Discussion

Through this final rule, FHWA is rescinding part of the rule issued on January 18, 2017, National Performance Management Measures; Assessing Performance of the National Highway System, Freight Movement on the Interstate System, and Congestion Mitigation and Air Quality Improvement Program, via Regulation Identifier Number (RIN) 2125-AF54, amending 23 CFR part 490, subpart A. This rule removes the regulatory language pertaining to the phase-in performance target reporting requirements related to the first performance period (January 1, 2018, through December 31, 2021).¹ For the reasons explained below, FHWA has determined that this part of the rule is unnecessary and will rescind such provisions.

¹ 23 CFR 490.105(e)(4)(i) and 490.107(b)(1)(i).

This final rule removes the requirement for State DOTs and MPOs' performance target reporting for the first performance period. This final rule also eliminates the regulatory language related to the urbanized area population threshold of over one million for the Annual Hours of Peak Hour Excessive Delay (PHED) Per Capita and the Percent of Non-SOV (single occupancy vehicle) Travel measures, as that provision applied only to the first performance period. These provisions previously allowed for a phased implementation approach to provide adequate time for State DOTs and MPOs to build capacity in managing performance for non-Interstate roadways and congestion within applicable urbanized areas of the National Highway System (NHS). The provisions allowed, for the first performance period only, for State DOTs and MPOs to be exempt from the requirement to report 2-year targets for the Interstate System pavement condition measure, the non-Interstate NHS travel time reliability measure, and the peak-hour excessive delay measure. Because the first performance period concluded on December 31, 2021, these phase-in provisions—specific to that initial period—are no longer necessary or applicable for inclusion in the regulation. Accordingly, FHWA finds good reason to eliminate these regulatory provisions.

II. Administrative Procedure Act

Under the Administrative Procedure Act (APA), the requirement for prior notice and an opportunity for public comment does not apply when the agency, for good cause, finds that those procedure are “impracticable, unnecessary, or contrary to the public interest.” See 5 U.S.C. 553(b)(B). The FHWA finds that notice and an opportunity for public comment are unnecessary for this rulemaking because this rulemaking removes the requirements that are no longer operative. The first performance period has passed and all States and MPOs have implemented the requirements of part 490. Therefore, FHWA finds good cause to issue this final rule without notice and an opportunity for public comment.

Furthermore, under the APA, there must be at least thirty days between publication of a substantive rule and its effective date except “as otherwise provided by the agency for good cause and published with the rule.” See 5 U.S.C. 553(d)(3). For similar reasons as above, FHWA believes that notice and comment are unnecessary because this final rule is rescinding regulatory provisions that currently are inoperative. Therefore, FHWA finds good cause to issue this final rule with immediate effectiveness.

III. Rulemaking Analyses and Notices

A. Executive Orders 12866 (Regulatory Planning and Review), Executive Order 13563 (Improving Regulation and Regulatory Review), and DOT Regulatory Policies and Procedures

This final rule does not meet the criteria of a “significant regulatory action” under Executive Order 12866, as amended by Executive Orders 14215 and 13563. Therefore, the Office of Management and Budget (OMB) has not reviewed this rule under those orders.

This final rule rescinds regulations that are currently inoperative. For that reason, FHWA does not believe there are any costs to this rulemaking, as opposed to the deregulatory benefit of removing unnecessary provisions from the Code of Federal Regulations.

These changes would not adversely affect, in a material way, any sector of the economy. In addition, these changes would not interfere with any action taken or planned by another agency and would not materially alter the budgetary impact of any entitlements, grants, user fees, or loan programs. Consequently, a full regulatory evaluation is not required.

B. Executive Order 14192 (Unleashing Prosperity Through Deregulation)

This rule is not an E.O. 14192 regulatory action. This rule would not adversely affect, in a material way, any sector of the economy. In addition, these changes would not interfere with any action taken or planned by another agency and would not materially alter the budgetary impacts of any entitlements, grants, user fees, or loan programs. Consequently, a full regulatory evaluation is not required.

C. Regulatory Flexibility Act

Under the Regulatory Flexibility Act (RFA) (5 U.S.C. 601-612) (as amended by the Small Business Regulatory Enforcement Fairness Act of 1996; 5 U.S.C. 601 et seq.), agencies must prepare and make available for public comment a regulatory flexibility analysis that describes the effect of the rule on small entities (i.e., small businesses, small organizations, and small government jurisdictions). No regulatory flexibility analysis is required, however, if the head of an agency or an appropriate designee certifies that the rule will not have a significant economic impact on a substantial number of small entities. FHWA has concluded and hereby certifies that this rule will not have a significant economic impact on a substantial number of small entities; therefore, an analysis is not included. This final rule will only remove regulations that are already inoperative.

D. Unfunded Mandates Reform Act

This final rule does not impose unfunded mandates as defined by the Unfunded Mandates Reform Act of 1995 (UMRA) (Pub. L. 104-4, 109 Stat. 48) for State, local, and Tribal governments, or the private sector of $100 million or more in any one year. Thus, the rule is not subject to the requirements of sections 202 and 205 of the UMRA.

E. Executive Order 13132 (Federalism Assessment)

This action has been analyzed in accordance with the principles and criteria contained in E.O. 13132. The FHWA has determined that this action does not have sufficient federalism implications to warrant the preparation of a federalism assessment. The FHWA has also determined that this action does not preempt any State law or State regulation or affect the States' ability to discharge traditional State governmental functions.

F. Paperwork Reduction Act

In accordance with the Paperwork Reduction Act of 1995 (44 U.S.C. 3501-3520), an agency may not conduct or sponsor, and a person is not required to respond to, a collection of information, unless the collection displays a currently valid Office of Management and Budget (OMB) control number. This final rule is deregulatory and so would not impose any additional information collection requirements.

G. National Environmental Policy Act

FHWA has analyzed this rule pursuant to the NEPA and has determined that it is categorically excluded under 23 CFR 771.117(c)(2), which applies to the promulgation of rules, regulations, and directives. Categorically excluded actions meet the criteria for categorical exclusions under 23 CFR 771.117(a) and normally do not require any further NEPA approvals by FHWA. This rule will rescind inoperative regulations referencing dates that have already passed. FHWA does not anticipate any adverse environmental impacts from this rule, and no unusual circumstances are present under 23 CFR 771.117(b).

H. Executive Order 13175 (Tribal Consultation)

Executive Order 13175 requires Federal agencies to consult and coordinate with Tribes on a government-to-government basis on policies that have Tribal implications, including regulations, legislative comments or proposed legislation, and other policy statements or actions that have substantial direct effects on one or more Indian Tribes, on the relationship between the Federal Government and Indian Tribes, or on the distribution of power and responsibilities between the Federal Government and Indian Tribes. FHWA has assessed the impact of this final rule on Indian tribes and determined that this rule would not have tribal implications that require consultation under Executive Order 13175.

I. Regulation Identifier Number

A RIN is assigned to each regulatory action listed in the Unified Agenda of Federal Regulations. The Regulatory Information Service Center publishes the Unified Agenda in the spring and fall of each year. The RIN contained in the heading of this document can be used to cross reference this action with the Unified Agenda.

J. Rulemaking Summary, 5 U.S.C. 553(b)(4)

As required by 5 U.S.C. 553(b)(4), a summary of this rule can be found at regulations.gov, under the docket number.

List of Subjects in 23 CFR Part 490

Bridges, Highway safety, Highways and roads, Reporting and recordkeeping requirements.

Issued in Washington, DC, under authority delegated in 49 CFR 1.85.
Gloria M. Shepherd,
Executive Director, Federal Highway Administration.

For the reasons stated in the preamble, FHWA amends 23 CFR part 490 as set forth below:

PART 490—NATIONAL PERFORMANCE MANAGEMENT MEASURES

1. The authority citation for part 490 continues to read as follows:

Authority: 23 U.S.C. 134, 135, 148(i), and 150; 49 CFR 1.85.

§ 490.105 [Amended]

2. In § 490.105:

a. Amend paragraph (e)(4)(iii) by removing the text “paragraphs (e)(7) and (e)(8)(v)” and adding, in its place, the text “paragraph (e)(8)(v)”;

b. Removing and reserving paragraphs (e)(7) and (e)(8)(i);

c. Amend the introductory text of paragraph (e)(8)(iii) by removing the text “paragraphs (e)(8)(i) and/or (ii)” and adding, in its place, the text “paragraph (e)(8)(ii)”;

d. Amend paragraph (e)(8)(iii)(D) by removing the text “1 million and 200,000 population thresholds, in paragraphs (e)(8)(i) and (ii)” in and adding, in its place, the text “200,000 population threshold in paragraph (e)(8)(ii)”;

e. Amend paragraphs (e)(8)(iii)(E) and (F) by removing the text “paragraphs (e)(8)(i) and (ii)” and adding, in its place, the text “paragraph (e)(8)(ii)”;

f. Amend paragraphs (e)(8)(iv) and (v) by removing the text “paragraphs (e)(8)(i) or (ii)” and adding, in its place, the text “paragraph (e)(8)(ii)”;

g. Removing and reserving paragraph (e)(8)(vi);

h. Amend paragraph (f)(1)(ii) by:

i. Removing the text “Except as provided in paragraph (f)(5)(vi) of this section, the MPOs” and adding in its place “The MPOs”; and

ii. Removing the text “paragraphs (f)(5)(i) and (ii) and” and adding, in its place, the text “paragraphs (f)(5)(ii) and”;

i. Amend paragraph (f)(1)(iii) by removing the text “paragraph (f)(5)(i), (f)(5)(ii), or (f)(6)(iii)” and adding, in its place, the text “paragraph (f)(5)(ii) or (f)(6)(iii)”

j. Removing and reserving paragraph (f)(5)(i);

k. Amend the introductory text of paragraph (f)(5)(iii) by removing the text “paragraphs (f)(5)(i) and/or (ii)” and adding, in its place, the text “paragraph (f)(5)(ii)”;

l. Amend paragraph (f)(5)(iii)(D) by removing text “1 million and 200,000 population thresholds, in paragraph (f)(5)(i) and (ii)” in and adding in its place “200,000 population threshold, in paragraph (f)(5)(ii)”;

m. Amend paragraphs (f)(5)(iii)(E) and (F) by removing the text “paragraphs (f)(5)(i) and (ii)” and adding, in its place, the text “paragraph (f)(5)(ii)”;

n. Amend paragraphs (f)(5)(iv) and (v) by removing the text “paragraphs (f)(5)(i) or (ii)” and adding, in its place, the text “paragraph (f)(5)(ii)”;

o. Removing and reserving paragraph (f)(5)(vi); and

p. Amend paragraph (f)(8) by removing text “measures in paragraph (f)(5)(i) or (ii)” and adding in its place “measures described in paragraph (f)(5)(ii)”.

§ 490.109 [Amended]

3. Amend § 490.109 by removing and reserving paragraph (e)(3).

[FR Doc. 2025-09725 Filed 5-27-25; 4:15 pm]

BILLING CODE 4910-22-P